DEPARTMENT OF HEALTH AND HUMAN SERVICES

National Institutes of Health

Center for Scientific Review; Amended Notice of Meeting

Notice is hereby given of a change in the meeting of the Musculoskeletal Rehabilitation Sciences Study Section, October 8, 2010, 8 a.m. to October 8, 2010, 6 p.m., Hilton Alexandria Old Town, 1767 King Street, Alexandria, VA, 22314 which was published in the Federal Register on September 1, 2010, 75 FR 53702-53703.

The meeting will be held October 7, 2010 to October 8, 2010. The meeting time and location remain the same. The meeting is closed to the public.

Dated: September 16, 2010.
Jennifer S. Spaeth,
Director, Office of Federal Advisory Committee Policy.

[FR Doc. 2010-23847 Filed 9-22-10; 8:45 am]

BILLING CODE 4140-01-P